DEPARTMENT OF COMMERCE

International Trade Administration

University of Illinois, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave, NW., Washington, DC.

Docket Number: 13-007. Applicant: University of Illinois, Urbana, IL 61801. Instrument: Electron Microscope. Manufacturer: FEI Company, Czech Republic. Intended Use: See notice at 78 FR 20614-20615, April 5, 2013. Comments: None received. Decision: Approved. We know of no instruments of equivalent scientific value to the foreign instruments described below, for such purposes as this is intended to be used, that was being manufactured in the United States at the time of its order. Reasons: The instrument will be used to seek the measurement and potentially direct-tailoring of materials properties, through the study of the relation of structure to catalytic activity, strain and composition within nanostructures, the effects of impurities on the strength of materials, and other properties of catalytic materials such as Pt, Ru, and Mo, semiconductor nanostructures (Si, Ge, InAs), metal alloys such as Ni/Al, and other materials.

Docket Number: 13-010. Applicant: University of Pittsburgh, Pittsburgh, PA 15261. Instrument: Electron Microscope. Manufacturer: FEI Czech Republic. Intended Use: See notice at 78 FR 20614-20615, April 5, 2013. Comments: None received. Decision: Approved. We know of no instruments of equivalent scientific value to the foreign instruments described below, for such purposes as this is intended to be used, that was being manufactured in the United States at the time of its order. Reasons: The instrument will be used to gain a better understanding of the relationship between microstructure and the performance of materials, through the analysis of crystallographic texture, the identification of crystallographic orientation relationships between precipitates and the matrix, precipitate size distributions and the analysis of chemical compositions of electronic materials, advanced ceramics for medical applications, advanced Ni-based Superalloys, stainless steels (for energy applications), advanced high-strength steels, and many other materials.

Docket Number: 13-011. Applicant: National Institutes of Health, Bethesda, MD 20892. Instrument: Electron Microscope. Manufacturer: JEOL Ltd., Japan. Intended Use: See notice at 78 FR 20614-20615, April 5, 2013. Comments: None received. Decision: Approved. We know of no instruments of equivalent scientific value to the foreign instruments described below, for such purposes as this is intended to be used, that was being manufactured in the United States at the time of its order. Reasons: The instrument will be used to help understand how the human body functions normally, such as in learning, memory or hearing, and to understand the pathologies of human diseases. In order to understand these functions, this instrument will be used in experiments such as identifying the molecular components of a structure in an adult and in development, as well as looking for changes in the structure brought on by disease or by normal functional changes in cells of living organisms such as nerve cells or neurons of the brain, as well as inner ear cells.

Dated: June 26, 2013.
Gregory W. Campbell,
Director, Subsidies Enforcement Office, Import Administration.

[FR Doc. 2013-15883 Filed 7-1-13; 8:45 am]

BILLING CODE 3510-DS-P